ENVIRONMENTAL PROTECTION AGENCY

[EPA-HQ-OGC-2020-0399; FRL-10013-98-OGC]

Proposed Consent Decree, Clean Air Act Citizen Suit

AGENCY: Environmental Protection Agency (EPA).

ACTION: Notice of proposed consent decree; request for public comment.

SUMMARY: In accordance with section 113(g) of the Clean Air Act, as amended (CAA or the Act), notice is given of a proposed consent decree in Center for Biological Diversity, et al., v. Wheeler, No. 3:20-cv-00448 (N.D. Cal.). On January 22, 2020 and February 19, 2020, the Center for Biological Diversity and the Center for Environmental Health (collectively, Plaintiffs) filed a complaint and a first amended complaint, respectively, in the United States District Court for the Northern District of California, alleging that the Administrator of the United States Environmental Protection Agency (EPA) failed to perform certain non-discretionary duties. First, Plaintiffs allege that EPA failed to issue a finding of failure to submit for state implementation plans (SIPs) addressing reasonably available control technology (RACT) for volatile organic compounds (VOC) from sources covered by the 2016 Oil and Gas control techniques guideline (CTG) for the 2008 ozone National Ambient Air Quality Standards (NAAQS) for states and areas listed in the First Amended Complaint within six months after the SIP due date. Second, Plaintiffs allege that EPA failed to take final action to approve or disapprove, in whole or in part, Oil and Gas CTG SIPs for the 2008 and/or 2015 ozone NAAQS submitted by various states for the nonattainment areas and ozone transport region (OTR) states listed in the First Amended Complaint. The proposed consent decree would establish deadlines for EPA to take specified actions.

DATES: Written comments on the proposed consent decree must be received by September 21, 2020.

ADDRESSES: Submit your comments, identified by Docket ID No. EPA-HQ-OGC-2020-0399, online at https://www.regulations.gov (EPA's preferred method). Follow the online instructions for submitting comments.

Instructions: All submissions received must include the Docket ID number for this action. Comments received may be posted without change to https://www.regulations.gov/, including any personal information provided. For detailed instructions on sending comments and additional information on the rulemaking process, see the “Additional Information about Commenting on the Proposed Consent Decree” heading under the SUPPLEMENTARY INFORMATION section of this document. Out of an abundance of caution for members of the public and our staff, the EPA Docket Center and Reading Room are closed to the public, with limited exceptions, to reduce the risk of transmitting COVID-19. Our Docket Center staff will continue to provide remote customer service via email, phone, and webform. We encourage the public to submit comments via https://www.regulations.gov, as there may be a delay in processing mail and faxes. Hand deliveries and couriers may be received by scheduled appointment only. For further information on EPA Docket Center services and the current status, please visit us online at https://www.epa.gov/dockets.

The EPA continues to carefully and continuously monitor information from the CDC, local area health departments, and our Federal partners so that we can respond rapidly as conditions change regarding COVID-19.

FOR FURTHER INFORMATION CONTACT: Derek Mills, Air and Radiation Law Office (2344A), Office of General Counsel, U.S. Environmental Protection Agency, 1200 Pennsylvania Ave. NW, Washington, DC 20460; telephone: (202) 564-3341; email address: mills.derek@epa.gov.

SUPPLEMENTARY INFORMATION:

I. Obtaining a Copy of the Proposed Consent Decree

The official public docket for this action (identified by Docket ID No. EPA-HQ-OGC-2020-0399) contains a copy of the proposed consent decree.

The electronic version of the public docket for this action contains a copy of the proposed consent decree, and is available through https://www.regulations.gov. You may use https://www.regulations.gov to submit or view public comments, access the index listing of the contents of the official public docket, and access those documents in the public docket that are available electronically. Once in the system, key in the appropriate docket identification number then select “search.”

II. Additional Information About the Proposed Consent Decree

The proposed consent decree, which would fully resolve a lawsuit filed by the Center for Biological Diversity and the Center for Environmental Health, would require the EPA to take action under the CAA to make a finding of failure to submit for SIPs addressing RACT for VOC from sources covered by the 2016 Oil and Gas CTG pursuant to 42 U.S.C. 7410(k)(1)(B) for the 2008 ozone NAAQS for certain states and areas as listed in the proposed consent decree. The proposed consent decree would also require the Administrator, pursuant to CAA sections 110(k)(2)-(4), 42 U.S.C. 7410(k)(2)-(4), to take final action to approve or disapprove, in whole or in part SIP submissions addressing the 2016 Oil and Gas CTG for the 2008 and/or 2015 ozone NAAQS submitted by various states for the nonattainment areas and OTR states as listed in the proposed consent decree.

Under the terms of the proposed consent decree, EPA shall sign a notice or notices finding that the states identified as such in the consent decree have failed to submit a SIP or SIP revision addressing RACT for VOC sources covered by the Oil and Gas RACT CTG for the 2008 ozone NAAQS for the nonattainment area or state listed in the proposed consent decree by the established deadline. In addition, under the proposed consent decree, EPA shall sign a notice of proposed and/or final rulemaking to approve, disapprove, conditionally approve, or approve in part and conditionally approve or disapprove in part, Oil and Gas RACT CTG SIPs for the 2008 and/or 2015 ozone NAAQS for the nonattainment areas and OTR states as listed and identified as such in the proposed consent decree by the established deadlines.

For a period of thirty (30) days following the date of publication of this document, the Agency will accept written comments relating to the proposed consent decree. EPA or the Department of Justice may withdraw or withhold consent to the proposed consent decree if the comments disclose facts or considerations that indicate that such consent is inappropriate, improper, inadequate, or inconsistent with the requirements of the Act.

III. Additional Information About Commenting on the Proposed Consent Decree

Submit your comments, identified by Docket ID No. EPA-HQ-OGC-2020-0399, via https://www.regulations.gov. Once submitted, comments cannot be edited or removed from this docket. The EPA may publish any comment received to its public docket. Do not submit to EPA's docket at https://www.regulations.gov any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the web, cloud, or other file sharing system). For additional submission methods, the full EPA public comment policy, information about CBI or multimedia submissions, and general guidance on making effective comments, please visit https://www.epa.gov/dockets/commenting-epa-dockets. For additional information about submitting information identified as CBI, please contact the person listed in the FOR FURTHER INFORMATION CONTACT section of this document. Note that written comments containing CBI and submitted by mail may be delayed and deliveries or couriers will be received by scheduled appointment only.

If you submit an electronic comment, EPA recommends that you include your name, mailing address, and an email address or other contact information in the body of your comment. This ensures that you can be identified as the submitter of the comment and allows EPA to contact you in case EPA cannot read your comment due to technical difficulties or needs further information on the substance of your comment. Any identifying or contact information provided in the body of a comment will be included as part of the comment that is placed in the official public docket and made available in EPA's electronic public docket. If EPA cannot read your comment due to technical difficulties and cannot contact you for clarification, EPA may not be able to consider your comment.

Use of the https://www.regulations.gov website to submit comments to EPA electronically is EPA's preferred method for receiving comments. The electronic public docket system is an “anonymous access” system, which means EPA will not know your identity, email address, or other contact information unless you provide it in the body of your comment.

Please ensure that your comments are submitted within the specified comment period. Comments received after the close of the comment period will be marked “late.” EPA is not required to consider these late comments.

Gautam Srinivasan,
Associate General Counsel.

[FR Doc. 2020-18393 Filed 8-20-20; 8:45 am]

BILLING CODE 6560-50-P